DEPARTMENT OF TRANSPORTATION

Federal Aviation Administration

Advisory Circular 20-66A, Vibration and Fatigue Evaluation of Airplane Propellers

AGENCY: Federal Aviation (FAA), DOT.

ACTION: Notice of issuance of advisory circular.

SUMMARY: This notice announces the issuance of Advisory Circular (AC) 20-66A, titled “Vibration and Fatigue Evaluation of Airplane Propellers”. This advisory circular (AC) provides guidance and describes one method, but not the only method, for demonstrating compliance with §§ 23.907 and 25.907 of Title 14 of the Code of Federal Regulations, for the evaluation of vibration stresses on propellers installed on airplanes. Like all AC material, this AC is not, in itself, mandatory and does not constitute a regulation. While these guidelines are not mandatory, they are derived from extensive Federal Aviation Administration (FAA) and industry experience in determining compliance with the pertinent regulations.

DATES: Advisory Circular 20-66A was issued by the Manager, Engine and Propeller Directorate, Aircraft Certification Office, ANE-100, on September 17, 2001.

How to Obtain Copies: A paper copy of AC 20-66A may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at http://www.faa.gov/avr/air/airhome.htm, at the link titled “Advisory Circulars” under the “Available Information” down-drop menu.

Issued in Burlington, Massachusetts on October 23, 2001.
Thomas Boudreau,
Acting Manager, Engine and Propeller Directorate, Aircraft Certification Service.

[FR Doc. 01-28377 Filed 11-9-01; 8:45 am]

BILLING CODE 4910-13-M